DEPARTMENT OF THE TREASURY

Office of Thrift Supervision

Application Filing Requirements

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before July 8, 2011.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You can request additional information about this proposed information collection from Donald W. Dwyer on (202) 906-6414, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: Application Filing Requirements.

OMB Number: 1550-0056.

Form Number: N/A.

Description: OTS regulations require that applications, notices, or other filings must be submitted to the appropriate Regional Office of OTS. See 12 CFR 516.40(a). Section 516.40(a) requires the applicant to file the original application and the number of copies indicated on the applicable form with the applications filing division of the appropriate Regional Office. If the form does not indicate the number of copies the applicant must file or if OTS has not prescribed a form for the application, the applicant must file the original application and two copies. The applicant must caption the original application and all required copies with the type of filing and must include all exhibits and required documents with the original and the required copies. 12 CFR 516.30(b). If an application, notice, or other filing raises a significant issue of law or policy, or the form instructs the applicant to file with OTS Headquarters, the applicant must also file copies of the application with the Applications Filing Room at OTS in Washington, DC. The applicant must file the number of copies with OTS Headquarters that are indicated on the applicable form. If the form does not indicate the number of copies, or if OTS has not prescribed a form for the application, the applicant must file three copies with OTS Headquarters. 12 CFR 516.40(b).

Type of Review: Extension of a currently approved collection.

Affected Public: Businesses or other for-profit.

Estimated Number of Respondents: 1,175.

Estimated Frequency of Response: On occasion.

Estimated Total Burden: 200 hours.

Dated: May 3, 2011.
Ira L. Mills,
Paperwork Clearance Officer, Office of Chief Counsel, Office of Thrift Supervision.

[FR Doc. 2011-11151 Filed 5-6-11; 8:45 am]

BILLING CODE 6720-01-P